DEPARTMENT OF ENERGY

Federal Energy Regulatory Commission

Notice of Application for Modification of Project Recreation Plan and Soliciting Comments, Motions To Intervene, and Protests

December 5, 2003.

Take notice that the following application has been filed with the Commission and is available for public inspection:

a. Type of Application: Request to modify the recreation plan to afford more public access at Moran Road while protecting threatened species.

b. Project No: 2246-046.

c. Date Filed: June 11, 2003, and supplemented November 12, 2003.

d. Applicant: Yuba County Water Agency.

e. Name of Project: Yuba River Project.

f. Location: Moran Road on west side of New Bullards Bar Reservoir near Little Oregon Creek in Yuba County, California (about 25 miles northeast of Marysville, CA).

g. Filed Pursuant to: 18 CFR 4.200.

h. Applicant Contact: Curt Aikens, General Manager, YCWA, 1402 D St., Marysville, CA 95901-4226.

i. FERC Contact: Antonia Lattin, antonia.lattin@ferc.gov, (415)-369-3334

j. Deadline for Filing Comments, Motions to Intervene and Protest: January 9, 2004.

The Commission's rules of practice and procedure require all interveners filing documents with the Commission to serve a copy of that document on each person in the official service list for the project. Further, if an intervener files comments or documents with the Commission relating to the merits of an issue that may affect the responsibilities of a particular resource agency, they must also serve a copy of the document on that resource agency.

k. Description of Application: The licensee is requesting a modification of the approved project recreation plan to allow seasonal access at the Moran Road area of New Bullards Bar Reservoir. The existing recreation plan filed February 26, 1993, approved August 19, 1993, and amended July 18, 2003, and September 30, 2003, specifies reconstruction of ½ mile of the unpaved Moran Road, enlarging a turnaround area to accommodate about six cars, and closing Moran Road beyond the turnaround. The proposed modification as supplemented in the November 12, 2003, filing proposes that the Moran Road gate be closed from October 15 to May 1 to protect the federally threatened California red-legged frog (Rana aurora draytonii), the federally threatened bald eagle (Haliaeetus leucocephalus), and to assure public safety. The gate would remain open for the summer recreation season from May 2 to October 14.

The licensee consulted with the Tahoe National Forest and the U.S. Fish and Wildlife Service. The U.S. Fish and Wildlife Service concurred with the Forest Service finding that the action is not likely to adversely affect the threatened species as long as the mitigation measures listed in the Forest Service Decision Memo dated August 26, 2003, are implemented. The licensee has also held meetings with members of the public and tried to accommodate the request for as much public access as possible at the Moran Road site.

l. The filings are available for review at the Commission in the Public Reference Room or may be viewed on the Commission's Web site at http://www.ferc.gov using the “eLibrary” link. Select “General Search” and enter a “P-” plus the docket number excluding the last three digits to access the document. Click on “Image” when the listing appears to view the text of the filing. For assistance, call toll-free 1-866-208-3676 or e-mail FERCOnlineSupport@ferc.gov. For TTY, call (202) 502-8659. A copy is also available for inspection and reproduction at the addresses in item h.

m. Individuals desiring to be included on the Commission's mailing list should so indicate by writing to the Secretary of the Commission.

n. Comments, Protests, or Motions to Intervene— Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing an original and eight copies to: The Secretary, Federal Energy Regulatory Commission, 888 First Street, NE., Washington, DC 20426. A copy of any motion to intervene must also be served upon each representative of the Applicant specified in the particular application.

Comments, protests and interventions may be filed electronically via the Internet in lieu of paper; see 18 CFR 385.2001(a)(1)(iii) and the instructions on the Commission's Web site under the “e-Filing” link. The Commission strongly encourages electronic filings.

p. Agency Comments— Federal, State, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E3-00536 Filed 12-11-03; 8:45 am]

BILLING CODE 6717-01-P